DEPARTMENT OF AGRICULTURE

Forest Service

Forest Service Handbook 5509.11, Chapter 10 Title Claims and Encroachments

AGENCY: Forest Service, Agriculture (USDA).

ACTION: Notice of availability for public comment.

SUMMARY: The Forest Service (Forest Service or Agency), United States Department of Agriculture (USDA), is revising directives related to Title Claims and Encroachments (FSH 5509.17 Chapter 10). The contents of the handbook have been reorganized to align with the case processing activities in the Title Claims and Encroachment Management System Database (TCEMS) which was deployed in August 2012. The new directive will include clear direction on how to process a trespass case from start to finish, including exhibits and example letters that should be used and followed. All trespass and encroachments will be stored in the TCEMS database for ease and tracking. In addition, internal processing steps were included in the handbook to provide clarity for Forest Service staff.

DATES: Comments must be received in writing by July 17, 2023.

ADDRESSES: Comments may be submitted electronically to https://cara.fs2c.usda.gov/Public/CommentInput?project=ORMS-3650. Written comments may be mailed to Nathan Price, Chief Land Surveyor, Lands and Realty, 201 14th Street SW, Washington, DC 20024. All timely received comments, including names and addresses, will be placed in the record and will be available for public inspection and copying. The public may inspect comments received at https://cara.fs2c.usda.gov/Public/ReadingRoom?project=ORMS-3650.

FOR FURTHER INFORMATION CONTACT: Nathan Price, Chief Land Surveyor, at 202-205-1353 or nathan.price@usda.gov. Individuals who use telecommunications devices for the deaf and hard of hearing (TDD) may call the Federal Relay Service (FRS) at 800-877-8339, 24 hours a day, every day of the year, including holidays.

SUPPLEMENTARY INFORMATION: The Forest Service has determined that the changes to the handbook formulate standards, criterion, or guidelines applicable to a Forest Service program and are therefore publishing the proposed manual for public comment in accordance with 36 CFR part 216. The Forest Service is seeking public comment on the proposed directive, including the sufficiency of the proposed directive in meeting its stated objectives, ways to enhance the utility and clarity of information within the direction, or ways to streamline processes outlined.

The National Environmental Policy Act (NEPA) procedures exclude from documentation in an environmental assessment or impact statement “rules, regulations, or policies to establish service wide administrative procedures, program processes, or instructions” (36 CFR 220.6(d)(2)). The Agency's conclusion is that these proposed directives fall within this category of actions and that no extraordinary circumstances exist as currently defined that require preparation of an environmental assessment or an environmental impact statement.

After the public comment period closes, the Forest Service will consider timely comments that are within the scope of the proposed directive in the development of the final directive. A notice of the final directive, including a response to timely comments, will be posted on the Forest Service's web page at https://www.fs.usda.gov/about-agency/regulations-policies/comment-on-directives.

Dated: June 12, 2023.
Troy Heithecker,
Associate Deputy Chief, National Forest System.

[FR Doc. 2023-12922 Filed 6-15-23; 8:45 am]

BILLING CODE 3411-15-P